DEPARTMENT OF EDUCATION

[Docket ID ED-2012-OVAE-0014]

Notice Reopening the Request for Information (RFI) on Strategies for Improving Outcomes for Disconnected Youth

AGENCY: Office of Vocational and Adult Education, Department of Education.

ACTION: Notice reopening comment period.

SUMMARY: On June 4, 2012, we published in the Federal Register (77 FR 32959) an RFI that established a July 5, 2012, deadline for the submission of written comments. We are reopening the public comment period to give interested parties additional time to submit written comments.

DATES: Written comments must be received by July 31, 2012.

ADDRESSES: Submit your comments through the Federal eRulemaking Portal or via U.S. mail, commercial delivery, or hand delivery. We will not accept comments by fax or by email. To ensure that we do not receive duplicate copies, please submit your comments only one time. In addition, please include the Docket ID and the term “Performance Partnership Response” at the top of your comments.

• Federal eRulemaking Portal: Go to www.regulations.gov to submit your comments electronically. Information on using Regulations.gov, including instructions for accessing agency documents, submitting comments, and viewing the docket, is available on the site under “How to Use This Site.”

• U.S. Mail, Commercial Delivery, or Hand Delivery: If you mail or deliver your comments, address them to Annie Blackledge, Attention: Improving Outcomes for Disconnected Youth RFI, U.S. Department of Education, 400 Maryland Avenue SW., room 11089, Potomac Center Plaza, Washington, DC 20202-7241.

• Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the Internet.

FOR FURTHER INFORMATION CONTACT: Meg Massey by email: mmassey@omb.eop.gov; or Annie Blackledge by email: Annie.Blackledge@ed.gov.

If you use a telecommunications device for the deaf (TDD) or a text telephone (TTY), call the Federal Relay Service (FRS), toll free, at 1-(800) 877-8339.

SUPPLEMENTARY INFORMATION:

Background

On June 4, 2012, we published in the Federal Register (77 FR 32959) an RFI notice. That notice established a July 5, 2012, deadline for the submission of comments on strategies for improving outcomes for disconnected youth. We are reopening the comment period for written comments in response to the RFI notice and establishing a new July 31, 2012 comment deadline. We are reopening the comment period to provide additional time for State and local agencies and other interested parties to respond to the questions in the June 4, 2012, Federal Register notice (77 FR 32959) with recommendations on effective approaches for improving outcomes for disconnected youth by working across Federal, State, and local community programs and systems that provide services to those youth.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: July 9, 2012.
Johan Uvin,
Delegated Authority to Perform the Functions and Duties of the Assistant Secretary for Vocational and Adult Education.

[FR Doc. 2012-17035 Filed 7-11-12; 8:45 am]

BILLING CODE 4000-01-P